DEPARTMENT OF THE INTERIOR

Bureau of Indian Affairs

Metlakatla Indian Community Alcohol Possession Code

AGENCY: Bureau of Indian Affairs, Interior.

ACTION: Notice.

SUMMARY: This notice publishes an amendment to the Law and Order Code (Code), Alcohol Possession, for the Metlakatla Indian Community of the Annette Island Reserve. The amendment regulates and controls the possession and consumption of liquor within the tribal lands. The tribal lands are located in Indian Country and this amended Code allows for possession of alcoholic beverages within their boundaries. This Code will increase the ability of the tribal government to control liquor possession and consumption by the community's members.

DATES: Effective Date: This Code is effective on August 13, 2008.

FOR FURTHER INFORMATION CONTACT: Betty Scissons, Tribal Government Services Officer, Northwest Regional Office, 911 NE 11th Ave., 8th Floor, Portland, OR 97232, Telephone: (503) 231-6723, Fax (503) 231-2189; or Elizabeth Colliflower, Office of Indian Services, 1849 C Street, NW., Mail Stop 4513-MIB, Washington, DC 20240, Telephone: (202) 513-7640.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian Country. The Metlakatla Indian Community, Council, Annette Islands Reserve, amended the Alcohol Possession section of its Law and Order Code by Resolution No. 07-49 on November 13, 2007. The purpose of this Ordinance is to govern the possession of alcohol within tribal lands of the Tribe.

This notice is published in accordance with the authority delegated by the Secretary of the Interior to the Assistant Secretary—Indian Affairs. I certify that this Alcohol Possession Code of the Metlakatla Indian Community was duly adopted by the Council, Annette Island Reserve on November 13, 2007.

Dated: July 31, 2008.
George Skibine,
Acting Deputy Assistant Secretaryfor Policy and Economic Development.

The Metlakatla Indian Community Alcohol Possession Code reads as follows:

PROVISIONS RELATED TO THE LEGALIZATION OF ALCOHOL POSSESSION WITHIN THE ANNETTE ISLANDS RESERVE

TITLE ONE, CHAPTER 1, CRIMINAL VIOLATIONS.

SECTION ONE.1.49 DISTRIBUTION OF TOBACCO AND INTOXICANTS TO CHILDREN.

A. Any person who shall provide any tobacco product to any child under the age of eighteen (18) years shall be guilty of an offense and, upon conviction thereof, shall be sentenced to labor for a period of not more than six (6) months or to pay a fine not to exceed the constitutional limit, or both, with costs.

B. Any person who shall provide any alcoholic beverage, narcotic or other intoxicant to any person under the age of twenty-one (21) years shall be guilty of an offense and, upon conviction thereof, shall be sentenced to labor for a period of not more than six (6) months or to pay a fine not to exceed the constitutional limit, or both, with costs. A person shall also be liable for this offense if he or she exercises control over property and allows any person under the age of twenty-one (21) years to consume alcohol on the property or to remain on the property if they have consumed alcohol.

SECTION ONE.1.55 LIQUOR POSSESSION FOR SALE.

A. Sale of Alcoholic Beverages Prohibited.

Any person who shall, within the Annette Islands Reserve, sell, barter or transport, possess, or manufacture any alcoholic beverage for purposes of sale or distribution thereof for profit, shall be guilty of an offense.

B. Application to Non-Member Natives.

1. First Conviction: Upon first conviction thereof, a non-member Native may be sentenced to labor for a period of not more than thirty (30) days and shall pay a fine of not less than one thousand dollars ($1000) and not more than five thousand dollars ($5000). Upon a conviction hereunder, a person shall appear before the Council for a public reprimand.

2. Second Conviction: Upon a second conviction thereof, a person may be sentenced to labor for a period of not to exceed ninety (90) days and shall pay a fine of five thousand dollars ($5000) and shall be made subject to a proceeding under Title Four, Chapter 3 to revoke all existing visitor, residence and employment permits in the person's possession.

3. First Conviction, Special Circumstances: Upon a first conviction involving a violation of Section One.1.49, a person may be sentenced to labor for a period of not to exceed ninety (90) days and shall pay a fine of five thousand dollars ($5000) and shall be made subject to a proceeding under Title Four, Chapter 3 to revoke all existing visitor, residence and employment permits in the person's possession.

C. Application to Members.

1. First Conviction: Upon first conviction thereof, a member may be sentenced to labor for a period of not more than thirty (30) days and shall pay a fine of not less than one thousand dollars ($1000) and not more than five thousand dollars ($5000). The Magistrate shall notify the defendant of the possibility of loss of membership privileges pursuant to the rules established by the Community Council if the defendant is convicted a subsequent time. Upon a conviction hereunder, a person shall appear before the Council for a public reprimand.

2. Second Conviction: Upon a second conviction thereof, a member may be sentenced to labor for a period of not to exceed ninety (90) days and shall pay a fine of five thousand dollars ($5000) and shall be required to relinquish all rights and privileges of citizenship of the Metlakatla Indian Community under Title Four, Chapter 2 for a period of six (6) months. No hearing or Special Council meeting shall be necessary under Title Four, Chapter 2.

3. First Conviction, Special Circumstances: Upon a first conviction involving a violation of Section One.1.49, a member may be sentenced to labor for a period of not to exceed ninety (90) days and shall pay a fine of five thousand dollars ($5000) and shall be required to relinquish all rights and privileges of citizenship of the Metlakatla Indian Community under Title Four, Chapter 2 for a period of six (6) months. No hearing or Special Council meeting shall be necessary under Title Four, Chapter 2.

SECTION ONE.1.56 LIQUOR VIOLATION.

Any person who shall, within the Annette Islands Reserve sell, barter, transport, possess, consume, or have consumed, or manufacture any alcoholic beverage shall be guilty of an offense and, upon conviction thereof, shall be sentenced to labor for a period of not more than six (6) months or to pay a fine not to exceed the constitutional limit, or both, with costs.

SECTION ONE.1.56 PUBLIC INTOXICATION.

A. A person commits the crime of public intoxication if he or she appears in a public place under the influence of alcohol, narcotics, or other drug to the degree that he or she endangers himself or herself or another person or property, or by boisterous and offensive conduct affects the enjoyment of another person in his or her vicinity.

B. Public intoxication is a violation and, upon conviction thereof, shall be punishable by a sentence of labor for a period of not more than six (6) months or to pay a fine not to exceed the constitutional limit, or both, with costs. Individuals arrested for public intoxication may be held in jail for a period after which they are no longer considered a harm to themselves and others (e.g., the time necessary for them to “sober up”), provided such time shall not exceed twelve (12) hours.

SECTION ONE.1.56(A) CONSUMPTION OF ALCOHOL IN PUBLIC PLACES.

A. A person commits the crime of consumption of alcohol in public places if he or she drinks or consumes any alcoholic liquor in or upon any street, alley, public grounds, or other public places. Public places shall be defined as those developed public areas designated by the Council, including areas within the municipal limits and developed beaches, including Smuggler's Cove, Sand Dollar, Graveyard, and Pioneer.

B. Consumption of alcohol in public places is an offense and, upon conviction thereof, shall be punishable by a sentence of labor for a period of not more than six (6) months or a fine not to exceed the constitutional limit, or both, with costs.

SECTION ONE.1.56(B) MINOR IN POSSESSION OF ALCOHOL.

A. A minor commits the crime of minor in possession of alcohol when he or she is in possession of alcohol, which can be proven by facts showing the minor had physical possession, constructive possession, or possession by consumption (breath) of alcohol.

B. Minor in possession of alcohol is a violation and subject to the provisions of Title 3, Chapter 4 (Juvenile Offender Procedure).

SECTION ONE.1.56(C) MISREPRESENTATION OF AGE BY A MINOR.

A. A minor commits the crime of misrepresentation of age by a minor when he or she is purposely not truthful about his or her age to prevent being in violation of law.

B. Misrepresentation of age by a minor is a violation and subject to the provisions of Title Three, Chapter 4 (Juvenile Offender Procedure).

TITLE FOUR, CHAPTER 6, GOVERNING CONTRABAND.

SECTION FOUR.6.2 DECLARATION OF CONTRABAND.

The following things and substances are hereby declared to be contraband and their manufacture, possession, sale, or use within the Annette Islands Reserve is hereby declared to be illegal:

A. Electronic decoder for radio messages.

B. Electronic radar detector.

C. Any other electronic device used to detect or interfere with any electromagnetic signal generated by the Metlakatla Police Department in its law enforcement activities or by any other governmental or law enforcement agency authorized to operate on the Annette Islands Reserve.

D. Marijuana or any other dangerous drug or narcotic the use or possession of which violates the Law & Order Code of the Metlakatla Indian Community or any Federal law relating to controlled substances, unless such use or possession is legal under the laws of the State of Alaska and is solely for medical purposes.

E. Any device, substance, airplane, boat, including fishing vessels, motor vehicle, or thing of any kind whatsoever used in connection with violating the Law & Order Code of the Metlakatla Indian Community, including all ordinances or any resolutions and orders of the Metlakatla Indian Community Council or the Magistrate's Court of the Metlakatla Indian Community.

F. The species of dog known as a Pit Bull or Pit Bull Terrier or other vicious animal.

G. Firearms of destructive devices possessed in violation of Section Four.5.2.

[FR Doc. E8-18771 Filed 8-12-08; 8:45 am]

BILLING CODE 4310-4J-P